DEPARTMENT OF HOMELAND SECURITY

Coast Guard

33 CFR Part 117

[Docket No. USCG-2013-0053]

Drawbridge Operation Regulations; West Bay, Osterville, MA

AGENCY: Coast Guard, DHS.

ACTION: Notice of temporary deviation from regulation.

SUMMARY: The Coast Guard has issued a temporary deviation from the regulation governing the operation of the West Bay Bridge across West Bay, mile 1.2, Osterville, Massachusetts. Under this temporary deviation, the bridge may remain in the closed position three months to facilitate scheduled bridge repairs.

DATES: This deviation is effective from March 11, 2013, through April 30, 2013. This deviation has been enforced with actual notice since February 26, 2013.

ADDRESSES: The docket for this deviation, [USCG-2013-0053] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John McDonald, Project Officer, First Coast Guard District, john.w.mcdonald@uscg.mil, or (617) 223-8364. If you have questions on viewing the docket, call Barbara Hairston, Program Manager, Docket Operations, telephone 202-366-9826.

SUPPLEMENTARY INFORMATION: The West Bay Bridge has a vertical clearance of 15 feet at mean high water, and 17 feet at mean low water in the closed position. The existing drawbridge operating regulations are found at 33 CFR 117.622.

The bridge owner, the Town of Barnstable, requested a bridge closure to facilitate bridge rehabilitation repairs.

Under this temporary deviation, the West Bay Bridge may remain in the closed position from February 22, 2013 through April 30, 2013.

The West Bay Bridge is transited predominantly by recreational vessels. The bridge rarely opens in the winter months when this temporary deviation will be in effect; however, there is an alternate route around Grand Isle for marine traffic.

In accordance with 33 CFR 117.35(e), the bridge must return to its regular operating schedule immediately at the end of the designated repair period. This deviation from the operating regulations is authorized under 33 CFR 117.35.

Dated: February 26, 2013.
Gary Kassof,
Bridge Program Manager, First Coast Guard District.

[FR Doc. 2013-05548 Filed 3-8-13; 8:45 am]

BILLING CODE 9110-04-P